DEPARTMENT OF DEFENSE

Department of the Air Force

[Docket ID: USAF-2020-HQ-0006]

Proposed Collection; Comment Request

AGENCY: Department of the Air Force, DoD.

ACTION: Information collection notice.

SUMMARY: In compliance with the Paperwork Reduction Act of 1995, the Department of the Air Force announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 13, 2020.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to CMOS, 200 East Moore Dr., Maxwell AFB Gunter Annex, AL 36114-3004, ATTN: Daniel J. Mangum, (334) 416-4679.

SUPPLEMENTARY INFORMATION:

Title; Associated Form; and OMB Number: Cargo Movement Operations System (CMOS); OMB Control Number 0701-CMOS.

Needs and Uses: CMOS is used by the DoD to plan, manage, and execute the movement of cargo and personnel. In addition to the deployment of active military personnel, the passenger manifest capability supports military retirees and military family members traveling on a “Space A CAT VI” basis. Those passengers are considered to be “general public.” The data required for a passenger manifest includes PII, such as a Passport Number, and is deemed to be a “Collection.” This “general public” data is collected when passengers are at the Air Terminal; no solicitation is involved.

Affected Public: Individuals and Household.

Annual Burden Hours: 18.

Number of Respondents: 180.

Responses per Respondent: 1.

Annual Responses: 180.

Average Burden per Response: 0.1 hour.

Frequency: Approximately 180 times per year.

This passenger data is collected only on an as-needed basis when the passengers request the Space A travel, and is collected only at the Air Terminal. CMOS does not seek out these respondents and does not in any way solicit their participation. There are no paper forms for information requests sent to the travelers for them to return.

The sole purpose of this data is to provide a complete manifest of the passengers onboard the military flight. It is not used for any other reporting or statistical purposes.

Dated: May 11, 2020.
Aaron T. Siegel,
Alternate OSD Federal Register Liaison Officer, Department of Defense.

[FR Doc. 2020-10342 Filed 5-13-20; 8:45 am]

BILLING CODE 5001-06-P